DEPARTMENT OF HOMELAND SECURITY

Coast Guard

[USCG-2007-28579]

Merchant Marine Personnel Advisory Committee

AGENCY: Coast Guard, DHS.

ACTION: Notice of open teleconference meeting.

SUMMARY: This notice announces a teleconference of the Merchant Marine Personnel Advisory Committee (MERPAC). The purpose of the teleconference is for MERPAC to discuss and prepare recommendations for the Coast Guard concerning its notice of proposed rulemaking (NPRM) on the Transportation Worker Identification Credential (TWIC) Biometric Reader Requirements.

DATES: The teleconference call will take place on Thursday, July 19th, 2007, from 10 a.m. until 1 p.m. Eastern Daylight Savings Time.

ADDRESSES: Members of the public may participate by dialing 1-866-917-8653. You will then be prompted to dial your participant number, which is 9264498#. Please ensure that you enter the # sign after the participant number. Public participation is welcomed; however, the number of teleconference lines is limited, and lines are available first-come, first-served. Members of the public may also participate by coming to Room 1303, U.S. Coast Guard Headquarters, 2100 Second Street, SW., Washington, DC 20593-0001. We request that members of the public who plan to attend this meeting notify Mr. Mark Gould at 202-372-1409 so that he may notify building security officials. You may also gain access to this docket at http://dms.dot.gov/search/searchFormSimple.cfm. The task statement may be accessed as a supplement to this docket.

FOR FURTHER INFORMATION CONTACT: Mr. Mark Gould, Assistant Executive Director of MERPAC, telephone 202-372-1409, fax 202-372-1426.

SUPPLEMENTARY INFORMATION: The Federal Advisory Committee Act requires that public notice of these meetings be announced in the Federal Register [5 U.S.C. App. (Pub. L. 92-463)]. MERPAC is chartered under that Act. It provides advice and makes recommendations to the Assistant Commandant for Operations on issues concerning merchant marine personnel such as implementation of the International Convention on Standards of Training, Certification and Watchkeeping for Seafarers (STCW), 1978, and developing standards of competency for ship's security officers.

Tentative Agenda

Thursday, July 19th, 2007.

10 a.m.-10:05 p.m.

Welcome and Opening Remarks—MERPAC Chairman Captain Andrew McGovern.

10:05 a.m.-12 p.m.

Open discussion concerning the Transportation Worker Identification Credential (TWIC) Biometric Reader Requirements.

12 p.m.-12:15 p.m.

Public comment period.

12:15 p.m.-1 p.m.

MERPAC vote on recommendations for the Coast Guard.

1 p.m.

Adjourn.

This tentative agenda is subject to change and the meeting may adjourn early if all committee business has been completed.

Public Participation

The Chairman of MERPAC is empowered to conduct the teleconference in a way that will, in his judgment, facilitate the orderly conduct of business. During its teleconference, the committee welcomes public comment. The committee will make every effort to hear the views of all interested parties, including the public. Written comments may be submitted to Mr. Mark Gould, Assistant Executive Director, MERPAC, Commandant (CG-3PSO-1), 2100 Second Street, SW., Washington DC 20593-0001.

Information on Services for Individuals With Disabilities

For information on facilities or services for individuals with disabilities or to request special assistance at the meeting, contact Mr. Gould as soon as possible.

Dated: June 25, 2007.
H.L. Hime,
Acting Director of National and International Standards Assistant Commandant for Prevention.

[FR Doc. E7-12685 Filed 6-29-07; 8:45 am]

BILLING CODE 4910-15-P